SMALL BUSINESS ADMINISTRATION

[Disaster Declaration #14587 and #14588]

Mississippi Disaster Number MS-00082

AGENCY: U.S. Small Business Administration.

ACTION: Amendment 1.

SUMMARY: This is an amendment of the Presidential declaration of a major disaster for the State of Mississippi (FEMA-4248-DR), dated 01/04/2016 .

Incident: Severe Storms, Tornadoes, Straight-line Winds, and Flooding.

Incident Period: 12/23/2015 through 12/28/2015.

Effective Date: 01/22/2016.

Physical Loan Application Deadline Date: 03/04/2016.

EIDL Loan Application Deadline Date: 10/04/2016.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street SW., Suite 6050, Washington, DC 20416

SUPPLEMENTARY INFORMATION: The notice of the Presidential disaster declaration for the State of Mississippi, dated 01/04/2016 is hereby amended to include the following areas as adversely affected by the disaster:

Primary Counties: (Physical Damage and Economic Injury Loans):

Monroe, Prentiss, Panola.

Contiguous Counties: (Economic Injury Loans Only):

Mississippi: Clay, Chickasaw, Lee, Lowndes, Itawamba, Tishomingo, Yalobusha.

Alabama: Lamar, Marion.

All other information in the original declaration remains unchanged.

(Catalog of Federal Domestic Assistance Numbers 59002 and 59008)

James E. Rivera,
Associate Administrator for Disaster Assistance.

[FR Doc. 2016-02159 Filed 2-3-16; 8:45 am]

BILLING CODE 8025-01-P